INTERNATIONAL TRADE COMMISSION

[Investigation Nos. 701-TA-365-366 and 731-TA-734-735 (Third Review)]

Certain Pasta From Italy and Turkey; Notice of Commission Determination To Conduct Full Five-Year Reviews

AGENCY: United States International Trade Commission.

ACTION: Notice.

SUMMARY: The Commission hereby gives notice that it will proceed with full reviews pursuant to section 751(c)(5) of the Tariff Act of 1930 (19 U.S.C. 1675(c)(5)) to determine whether revocation of the countervailing duty orders and revocation of the antidumping duty orders on certain pasta from Italy and Turkey would be likely to lead to continuation or recurrence of material injury to an industry in the United States within a reasonably foreseeable time. A schedule for the reviews will be established and announced at a later date. For further information concerning the conduct of these reviews and rules of general application, consult the Commission's Rules of Practice and Procedure, part 201, subparts A through E (19 CFR part 201), and part 207, subparts A, D, E, and F (19 CFR part 207).

DATED: : Effective Date: December 10, 2012.

FOR FURTHER INFORMATION CONTACT: Russell Duncan (220-708-2427), Office of Investigations, U.S. International Trade Commission, 500 E Street SW., Washington, DC 20436. Hearing-impaired persons can obtain information on this matter by contacting the Commission's TDD terminal on 202-205-1810. Persons with mobility impairments who will need special assistance in gaining access to the Commission should contact the Office of the Secretary at 202-205-2000. General information concerning the Commission may also be obtained by accessing its internet server (http://www.usitc.gov). The public record for this review may be viewed on the Commission's electronic docket (EDIS) at http://edis.usitc.gov.

SUPPLEMENTARY INFORMATION: On December 10, 2012, the Commission determined that it should proceed to full reviews in the subject five-year reviews pursuant to section 751(c)(5) of the Act. The Commission found that the domestic interested party group response to its notice of institution (77 FR 53909, September 4, 2012) was adequate and that the respondent interested party group response with respect to Turkey was adequate, and decided to conduct full reviews of the countervailing duty order and antidumping duty order on imports of certain pasta from Turkey. The Commission found that the respondent interested party group response with respect to Italy was inadequate. Notwithstanding the Commission's adequacy determination regarding Italy, the Commission determined to conduct full reviews of the countervailing duty order and antidumping duty order on imports of certain pasta from Italy to promote administrative efficiency in light of its decision to conduct full reviews with respect to Turkey. A record of the Commissioners' votes, the Commission's statement on adequacy, and any individual Commissioner's statements will be available from the Office of the Secretary and on the Commission's Web site.

Authority: These reviews are being conducted under authority of title VII of the Tariff Act of 1930; this notice is published pursuant to section 207.62 of the Commission's rules.

By order of the Commission.
Issued: January 2, 2013.
William R. Bishop,
Supervisory Hearings and Information Officer.

[FR Doc. 2013-00048 Filed 1-4-13; 8:45 am]

BILLING CODE 7020-02-P